DEPARTMENT OF LABOR

Employment and Training Administration

[TA-W-58,507]

JC Penney Catalog Distribution Center, Wauwatosa, WI; Notice of Termination of Investigation

Pursuant to section 221 of the Trade Act of 1974, as amended, an investigation was initiated on December 16, 2005 in response to a worker petition filed on behalf of workers at JC Penney, Catalog Distribution Center, Wauwatosa, Wisconsin.

The petition regarding the investigation has been deemed invalid. The petitioners were separated from the subject firm more than one year before the date of the petition. Section 223(b) of the Act specifies that no certification may apply to any worker whose last separation occurred more than one year prior to the date of the petition.

Signed at Washington, DC, this 27th day of December 2005.
Richard Church,
Certifying Officer, Division of Trade Adjustment Assistance.

[FR Doc. E6-116 Filed 1-9-06; 8:45 am]

BILLING CODE 4510-30-P